DEPARTMENT OF ENERGY

Federal Energy Regulatory Commission

Notice of Application for Transfer of License and Soliciting Comments, Motions To Intervene, and Protests

August 10, 2001.

Take notice that the following hydroelectric application has been filed with the Commission and is available for public inspection:

a. Application Type: Transfer of License.

b. Project No: 2469-039.

c. Date Filed: June 28, 2001.

d. Applicants: Arizona Public Service Company (APS or transferor) and PacifiCorp (transferee).

e. Name of Project: Transmission Line Number 2469.

f. Location: The project is located in Coconino County, Arizona. The project occupies lands of the United States Bureau of Reclamation.

g. Filed pursuant to: 18 CFR 4.200.

h. Applicant Contacts: For transferor—Mr. Joel R. Spitzkoff, Manager, Federal Regulation, Arizona Public Service Commission, 400 North 5th Street, 19th Floor, Station 9905, Phoenix, AZ 85004, (602) 250-2949, fax (602) 250-2873.

For transferee—Mr. Jack E. Stamper, Regulatory Manager, PacifiCorp Transmission, 700 NE. Multnomah Street, Suite 550, Portland, OR 97232, (503) 813-5737, fax (503) 813-5767.

i. FERC Contact: Any questions on this notice should be addressed to Tom Papsidero at (202) 219-2715, or e-mail address: thomas.papsidero@ferc.fed.us.

j. Deadline for filing comments and/or motions: (September 16, 2001).

All documents (original and eight copies) should be filed with: David P. Boergers, Secretary, Federal Energy Regulatory Commission, Mail Code: DLC, HL-11.1, 888 First Street, NE., Washington, DC 20426.

Please include the project number (2469-039) on any comments or motions filed.

k. Description of Transfer: APS requests approval to transfer its license to PacifiCorp as part of a sale of the line to PacifiCorp.

l. Locations of the application: Copies of this filing are on file with the Commission and are available for public inspection. This filing may be viewed on the Commission's web site at http://www.ferc.gov using the “RIMS” link, select “Docket #” and follow the instructions ((202) 208-2222 for assistance). Comments, protests and interventions may be filed electronically via the Internet in lieu of paper. See, 18 CFR 385.2001(a)(1)(iii) and the instructions on the Commission's web site under the “e-Filing” link. Copies are also available for inspection and reproduction at the addresses in item h above.

m. Individuals desiring to be included on the Commission's mailing list should so indicate by writing to the Secretary of the Commission.

n. This notice also consists of the following standard paragraphs: B, C1, D2.

Linwood A. Watson, Jr.,
Acting Secretary.

[FR Doc. 01-20617 Filed 8-15-01; 8:45 am]

BILLING CODE 6717-01-P